DEPARTMENT OF TRANSPORTATION

Pipeline and Hazardous Materials Safety Administration

[Docket No. PHMSA-2016-0004]

Pipeline Safety: Request for Special Permit; Tennessee Gas Pipeline Company, LLC

AGENCY: Pipeline and Hazardous Materials Safety Administration (PHMSA); DOT.

ACTION: Notice.

SUMMARY: PHMSA is publishing this notice to solicit public comments on a request for special permit renewal received from Tennessee Gas Pipeline Company, LLC (TGP). The special permit request is seeking relief from compliance with certain requirements in the federal pipeline safety regulations. At the conclusion of the 30-day comment period, PHMSA will review the comments received from this notice as part of its evaluation to grant or deny the special permit renewal request.

DATES: Submit any comments regarding this special permit request by June 27, 2022.

ADDRESSES: Comments should reference the docket number for this special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations,M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations (CFR) 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Kay McIver, DOT, PHMSA-PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Steve Nanney by telephone at 713-272-2855, or by email at steve.nanney@dot.gov.

SUPPLEMENTARY INFORMATION: PHMSA received a renewal request of a special permit issued on September 1, 2016, to TGP, a subsidiary of Kinder Morgan, Inc., seeking a waiver from the requirements of 49 CFR 192.611(a) and (d): Change in class location: Confirmation or revision of maximum allowable operating pressure, 49 CFR 192.619(a): Maximum allowable operating pressure: Steel or plastic pipelines, and 49 CFR 192.5(c): Class locations.

The September 1, 2016, special permit was granted for 192 special permit segments and approximately 49.00 miles of TGP natural gas transmission pipeline system located in the states of Kentucky, Louisiana, Mississippi, New Jersey, New York, Ohio, Pennsylvania, Tennessee, Texas, and West Virginia. This special permit renewal is being requested in lieu of pipe replacement, pressure reduction, or new pressure tests for 162 gas transmission special permit segments totaling 194,837.38 feet (approximately 36.901 miles). The 30 special permit segments that are not included in this notice nor the below table now meet the requirements of either 49 CFR 192.611(a) or 192.619(a) for a Class 3 location. The 162 renewal special permit segments, which have changed from a Class 1 to Class 3 location, are as follows:

Renewal special permit segment No. | County or parish, state | Outside diameter (inches) | Line name | Length (feet) | Year installed | Maximum allowable operating pressure (pounds per square inch gauge)
1 | Madison, KY | 24 | 100-1 | 526.27 | 1971 | 750
2 | Madison, KY | 24 | 100-1 | 12.70 | 1971 | 750
3 | Madison, KY | 24 | 100-1 | 168.34 | 1971 | 750
4 | Bath, KY | 26 | 100-2 | 606.60 | 1948 | 750
6 | Bath, KY | 26 | 100-2 | 1,515.30 | 1948 | 750
7 | Bath, KY | 26 | 100-2 | 344.20 | 1948 | 750
8 | Rowan, KY | 26 | 100-2 | 252.39 | 1948 | 750
10 | Madison, KY | 30 | 100-3 | 824.32 | 1950 | 750
11 | Madison, KY | 30 | 100-3 | 536.30 | 1950 | 750
12 | Madison, KY | 30 | 100-3 | 806.72 | 1950 | 750
13 | Rowan, KY | 26 | 100-3 | 1,054.07 | 1949 | 750
14 | Rowan, KY | 26 | 100-3 | 338.70 | 1949 | 750
15 | Rowan, KY | 26 | 100-3 | 912.96 | 1949 | 750
17 | Boyd, KY | 26 | 100-3 | 655.37 | 1950 | 790
18 | Boyd, KY | 26 | 100-3 | 494.40 | 1950 | 790
19 | Madison, KY | 30 | 100-4 | 521.39 | 1951 | 750
20 | Madison, KY | 30 | 100-4 | 607.56 | 1951 | 750
21 | Madison, KY | 36 | 800-2 | 1,690.82 | 1969 | 936
23 | Sabine, LA | 24 | 100-1 | 598.40 | 1944 | 750
24 | Natchitoches, LA | 24 | 100-1 | 1,118.30 | 1944 | 750
27 | Sabine, LA | 30 | 100-2 | 272.20 | 1949 | 750
28 | Natchitoches, LA | 31 | 100-2 | 1,121.16 | 1948 | 604
29 | Ouachita, LA | 26 | 100-2 | 920.80 | 1947 | 750
31 | Sabine, LA | 30 | 100-3 | 740.50 | 1951 | 750
32 | Natchitoches, LA | 30 | 100-3 | 1,772.33 | 1951 | 750
33 | Ouachita, LA | 30 | 100-3 | 907.80 | 1949 | 750
34 | Ouachita, LA | 30 | 100-4 | 1,414.14 | 1951 | 750
36 | Vermillion, LA | 24 | 500-1 | 872.70 | 1956 | 973
37 | Vermillion, LA | 24 | 500-1 | 3,005.66 | 1956 | 973
38 | IBERIA, LA | 24 | 500-1 | 858.45 | 1956 | 973
41 | Franklin, LA | 30 | 800-1 | 102.57 | 1954 | 936
42 | Franklin, LA | 30 | 800-1 | 1,259.31 | 1954 | 936
43 | Franklin, LA | 30 | 800-1 | 75.63 | 1954 | 936
44 | Washington, MS | 24 | 100-1 | 731.04 | 1944 | 750
45 | Washington, MS | 24 | 100-1 | 964.23 | 1944 | 750
46 | Washington, MS | 26 | 100-2 | 112.40 | 1948 | 750
47 | Washington, MS | 26 | 100-2 | 2,073.94 | 1948 | 750
48 | Benton, MS | 30 | 100-3 | 1,198.98 | 1949 | 750
49 | Benton, MS | 30 | 100-4 | 1,234.46 | 1952 | 750
50 | Hancock, MS | 30 | 500-1 | 1,471.05 | 1959 | 936
51 | Forrest, MS | 30 | 500-1 | 482.40 | 1959 | 936
52 | Forrest, MS | 30 | 500-1 | 1,370.49 | 1959 | 936
53 | Lauderdale, MS | 30 | 500-1 | 1,474.90 | 1959 | 936
55 | Lauderdale, MS | 30 | 500-1 | 257.20 | 1959 | 936
58 | Lowndes, MS | 30 | 500-1 | 959.21 | 1959 | 936
59 | Lowndes, MS | 30 | 500-1 | 1,581.69 | 1959 | 936
60 | Hancock, MS | 36 | 500-2 | 1,488.68 | 1965 | 936
61 | Forrest, MS | 36 | 500-2 | 1,909.29 | 1966 | 936
62 | Lauderdale, MS | 36 | 500-2 | 1,439.84 | 1966 | 936
64 | Lowndes, MS | 36 | 500-2 | 1,585.26 | 1964 | 936
65 | Hancock, MS | 36 | 500-3 | 1,347.37 | 1972 | 936
66 | Sussex, NJ | 24 | 300-1 | 2,953.04 | 1955 | 1170
67 | Sussex, NJ | 24 | 300-1 | 638.57 | 1955 | 1170
68 | Sussex, NJ | 24 | 300-1 | 471.55 | 1955 | 1170
69 | Sussex, NJ | 24 | 300-1 | 1,121.11 | 1955 | 1170
70 | Sussex, NJ | 24 | 300-1 | 811.71 | 1955 | 1170
71 | Sussex, NJ | 24 | 300-1 | 373.70 | 1955 | 1170
72 | Sussex, NJ | 24 | 300-1 | 1,729.51 | 1955 | 1170
75 | Ontario, NY | 24 | 200-1 | 654.33 | 1951 | 760
77 | Madison, KY | 24 | 200-1 | 1,478.51 | 1951 | 760
79 | Albany, NY | 24 | 200-1 | 1,153.88 | 1951 | 760
80 | Albany, NY | 24 | 200-1 | 1,059.96 | 1951 | 760
82 | Carroll, OH | 26 | 200-1 | 2,658.16 | 1950 | 790
83 | Columbiana, OH | 26 | 200-1 | 2,044.66 | 1950 | 790
84 | Columbiana, OH | 26 | 200-1 | 1,270.10 | 1950 | 790
85 | Columbiana, OH | 26 | 200-1 | 1,382.31 | 1950 | 790
86 | ATHENS, OH | 26 | 200-2 | 1,513.05 | 1952 | 790
88 | Carroll, OH | 26 | 200-2 | 2,680.73 | 1952 | 790
89 | Columbiana, OH | 26 | 200-2 | 1,296.36 | 1954 | 790
90 | Carroll, OH | 26 | 200-3 | 1,081.17 | 1956 | 790
92 | Carroll, OH | 26 | 200-3 | 974.20 | 1956 | 790
94 | Carroll, OH | 36 | 200-4 | 2,648.75 | 1963 | 790
95 | Columbiana, OH | 36 | 200-4 | 1,950.62 | 1963 | 790
96 | Columbiana, OH | 36 | 200-4 | 1,248.52 | 1963 | 790
97 | Columbiana, OH | 36 | 200-4 | 1,358.28 | 1963 | 790
98 | Lawrence, PA | 26 | 200-1 | 1,935.75 | 1950 | 790
99 | Mercer, PA | 24 | 300-1 | 839.87 | 1953 | 877
100 | Mercer, PA | 24 | 300-1 | 491.70 | 1953 | 877
101 | Mercer, PA | 30 | 300-2 | 875.56 | 1965 | 877
102 | Mercer, PA | 30 | 300-2 | 573.79 | 1965 | 877
103 | Dickson, TN | 24 | 100-1 | 533.33 | 1944 | 750
104 | Cheatham, TN | 24 | 100-1 | 2,782.53 | 1944 | 750
105 | Cheatham, TN | 24 | 100-1 | 1,490.60 | 1944 | 750
106 | Cheatham, TN | 24 | 100-1 | 28.61 | 1944 | 750
107 | Robertson, TN | 24 | 100-1 | 668.38 | 1944 | 750
108 | Robertson, TN | 24 | 100-1 | 1,953.93 | 1944 | 750
109 | Dickson, TN | 26 | 100-2 | 554.05 | 1948 | 750
110 | Dickson, TN | 26 | 100-2 | 177.44 | 1948 | 750
111 | Lewis, TN | 30 | 500-1 | 566.83 | 1959 | 936
112 | Lewis, TN | 30 | 500-1 | 686.45 | 1959 | 936
113 | Lewis, TN | 30 | 500-1 | 1,376.94 | 1959 | 936
114 | Cheatham, TN | 30 | 500-1 | 732.13 | 1959 | 936
115 | Cheatham, TN | 30 | 500-1 | 1,006.00 | 1959 | 936
116 | Cheatham, TN | 30 | 500-1 | 757.26 | 1959 | 936
117 | Cheatham, TN | 30 | 500-1 | 1,332.21 | 1959 | 936
118 | Cheatham, TN | 30 | 500-1 | 633.98 | 1959 | 936
119 | Cheatham, TN | 30 | 500-1 | 994.45 | 1959 | 936
120 | Cheatham, TN | 30 | 500-1 | 9.90 | 1959 | 936
121 | Cheatham, TN | 30 | 500-1 | 1,339.84 | 1959 | 936
122 | Robertson, TN | 30 | 500-1 | 2,474.52 | 1959 | 936
123 | Robertson, TN | 30 | 500-1 | 4,358.19 | 1959 | 936
124 | Robertson, TN | 30 | 500-1 | 1,929.95 | 1959 | 936
125 | Robertson, TN | 30 | 500-1 | 3,262.84 | 1959 | 936
126 | Lewis, TN | 36 | 500-2 | 469.38 | 1964 | 936
127 | Lewis, TN | 36 | 500-2 | 738.42 | 1964 | 936
128 | Cheatham, TN | 36 | 500-2 | 1,318.68 | 1968 | 936
129 | Cheatham, TN | 36 | 500-2 | 381.21 | 1968 | 936
130 | Cheatham, TN | 36 | 500-2 | 420.56 | 1968 | 936
131 | Cheatham, TN | 36 | 500-2 | 502.70 | 1963 | 936
132 | Cheatham, TN | 36 | 500-2 | 16.90 | 1963 | 936
133 | Cheatham, TN | 36 | 500-2 | 2,062.21 | 1963 | 936
134 | Robertson, TN | 36 | 500-2 | 1,001.81 | 1965 | 936
135 | Robertson, TN | 36 | 500-2 | 1,426.43 | 1965 | 936
136 | Robertson, TN | 36 | 500-2 | 303.70 | 1965 | 936
137 | Robertson, TN | 36 | 500-2 | 3,257.08 | 1965 | 936
138 | Robertson, TN | 36 | 500-2 | 1,899.22 | 1965 | 936
139 | Robertson, TN | 36 | 500-2 | 219.10 | 1965 | 936
140 | Robertson, TN | 36 | 500-2 | 2,970.93 | 1965 | 936
141 | Cheatham, TN | 30 | 800-1 | 384.62 | 1954 | 936
142 | Cheatham, TN | 30 | 800-1 | 581.50 | 1954 | 936
143 | Cheatham, TN | 30 | 800-1 | 1,104.30 | 1954 | 936
144 | Cheatham, TN | 30 | 800-1 | 1,366.34 | 1954 | 936
145 | Robertson, TN | 30 | 800-1 | 968.97 | 1954 | 936
146 | Robertson, TN | 30 | 800-1 | 1,797.26 | 1954 | 936
147 | Robertson, TN | 30 | 800-1 | 4,253.00 | 1954 | 936
148 | Robertson, TN | 30 | 800-1 | 1,978.36 | 1954 | 936
149 | Robertson, TN | 30 | 800-1 | 3,133.48 | 1954 | 936
151 | Waller, TX | 24 | 100-1 | 1,677.99 | 1944 | 750
152 | Harris, TX | 24 | 100-1 | 753.70 | 1944 | 750
153 | Sabine, TX | 24 | 100-1 | 675.00 | 1944 | 750
154 | Sabine, TX | 24 | 100-1 | 1,539.30 | 1964 | 750
155 | Sabine, TX | 24 | 100-1 | 573.40 | 1964 | 750
156 | Waller, TX | 30 | 100-2 | 1,574.15 | 1948 | 750
157 | Harris, TX | 30 | 100-2 | 1,220.90 | 1948 | 750
158 | Harris, TX | 30 | 100-2 | 1,962.45 | 1948 | 750
159 | Sabine, TX | 30 | 100-2 | 2,597.70 | 1949 | 750
160 | Waller, TX | 30 | 100-3 | 1,531.99 | 1952 | 750
161 | Waller, TX | 30 | 100-3 | 1,727.52 | 1952 | 750
162 | Harris, TX | 30 | 100-3 | 1,024.50 | 1952 | 750
163 | Harris, TX | 30 | 100-3 | 217.00 | 1952 | 750
164 | Harris, TX | 30 | 100-3 | 1,733.65 | 1952 | 750
165 | Harris, TX | 30 | 100-3 | 1,101.34 | 1952 | 750
166 | Sabine, TX | 30 | 100-3 | 1,502.40 | 1964 | 750
169 | Hidalgo, TX | 24 | 409A-100 Donna Line | 1,237.01 | 1950 | 933
171 | Hidalgo, TX | 24 | 409A-100 Donna Line | 1,523.74 | 1950 | 933
172 | Hidalgo, TX | 24 | 409A-100 Donna Line | 1,787.31 | 1950 | 933
173 | Kanawha, WV | 20 | 100-1 | 1,349.06 | 1984 | 910
174 | Kanawha, WV | 20 | 100-1 | 1,228.73 | 1984 | 910
175 | Kanawha, WV | 20 | 100-1 | 584.46 | 1984 | 910
176 | Kanawha, WV | 20 | 100-1 | 2,249.91 | 1984 | 936
177 | Wayne, WV | 24 | 100-2 | 2,657.51 | 1948 | 973
178 | Putnam, WV | 24 | 100-2 | 1,833.55 | 1948 | 938
181 | Cabell, WV | 26 | 100-3 | 438.10 | 1966 | 910
182 | Putnam, WV | 30 | 100-3 | 1,415.75 | 1972 | 910
183 | Putnam, WV | 30 | 100-3 | 891.20 | 1972 | 910
185 | Harris, TX | 24 | 100-1 | 1,181.70 | 1944 | 750
186 | Harris, TX | 24 | 100-1 | 1,351.66 | 1966 | 750
187 | Kanawha, WV | 24 | 100-2 | 1,233.70 | 1948 | 910
188 | Cheatham, TN | 30 | 100-4 | 497.50 | 1952 | 750
189 | Madison, KY | 30 | 100-4 | 1,342.49 | 1951 | 750
190 | Madison, KY | 30 | 100-4 | 242.74 | 1951 | 750
191 | Lauderdale, MS | 36 | 500-2 | 311.51 | 1963 | 936

The special permit renewal request, proposed special permit with conditions, draft environmental assessment (DEA), and annual report findings for pipeline integrity and reportable incidents for the above listed TGP special permit segments are available for review and public comments in Docket No. PHMSA-2016-0004. PHMSA invites interested persons to review and submit comments on the special permit renewal request and DEA in the docket. Please include any comments on potential safety and environmental impacts that may result if the special permit is granted. Comments may include relevant data.

Before issuing a decision on the special permit renewal request, PHMSA will evaluate all comments received on or before the comments closing date. Comments received after the closing date will be evaluated, if it is possible to do so without incurring additional expense or delay. PHMSA will consider each relevant comment it receives in making its decision to grant or deny this special permit request.

Issued in Washington, DC, on May 16, 2022, under authority delegated in 49 CFR 1.97.
Alan K. Mayberry,
Associate Administrator for Pipeline Safety.

[FR Doc. 2022-11499 Filed 5-26-22; 8:45 am]

BILLING CODE 4910-60-P